DEPARTMENT OF THE INTERIOR

National Park Service

[NPS-WASO-NAGPRA-NPS0037478; PPWOCRADN0-PCU00RP14.R50000]

Notice of Intent To Repatriate Cultural Items: University of California, Riverside, Riverside, CA, and the California Department of Parks and Recreation, Sacramento, CA

AGENCY: National Park Service, Interior.

ACTION: Notice.

SUMMARY: In accordance with the Native American Graves Protection and Repatriation Act (NAGPRA), the University of California, Riverside and the California Department of Parks and Recreation intends to repatriate certain cultural items that meet the definition of objects of cultural patrimony and that have a cultural affiliation with the Indian Tribes or Native Hawaiian organizations in this notice. The cultural items were removed from San Luis Obispo, CA.

DATES: Repatriation of the cultural items in this notice may occur on or after March 29, 2024.

ADDRESSES: Megan Murphy, University of California, Riverside, 900 University Avenue, Riverside, CA 92517-5900, telephone (951) 827-6349, email megan.murphy@ucr.edu and Leslie Hartzell, NAGPRA Coordinator, at California State Parks, 715 P Street, Suite 13, Sacramento, CA 95814, telephone (415) 831-2700, email leslie.hartzell@parks.ca.gov.

SUPPLEMENTARY INFORMATION: This notice is published as part of the National Park Service's administrative responsibilities under NAGPRA. The determinations in this notice are the sole responsibility of the University of California, Riverside and the California Department of Parks and Recreation. The National Park Service is not responsible for the determinations in this notice. Additional information on the determinations in this notice, including the results of consultation, can be found in the summary or related records held by the University of California, Riverside and the California Department of Parks and Recreation.

Description

The two cultural items were removed from San Luis Obispo County, CA. In 2001, Terry Jones removed sea-snail shells for radiocarbon date calibration from archeological site CA-SLO-116 (San Simeon State Park). The site, which is under the legal control of the California Department of Parks and Recreation, consists of 19 recorded bedrock mortars and large shell midden deposits. The shell samples submitted to the UCR radiocarbon laboratory dated to 665 ± BP, 785 ± BP, and 3910 ± BP. There are no known associated collections from this site held by CDPR at other locations.

In 1981, R.O. Gibson removed shell fragments for radiocarbon date sampling from archeological site CA-SLO-978, Morro Bay Sandspit. The site, located in Montana de Oro State Park Los Osos, was originally recorded in 1969 as a shell mound or midden. Other noted cultural constituents included debitage, fire-affected, and additional nearby shell middens. There are no known associated collections from this site held by CDPR at other locations. The two lots of objects of cultural patrimony are two lots of shells.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: tribal traditional knowledge, archeological information, geographical information, historical information, kinship, oral tradition, and expert opinion.

Determinations

Pursuant to NAGPRA and its implementing regulations, and after consultation with the appropriate Indian Tribes and Native Hawaiian organizations, the University of California, Riverside and the California Department of Parks and Recreation has determined that:

• The two lots of cultural items described above have ongoing historical, traditional, or cultural importance central to the Native American group or culture itself, rather than property owned by an individual.

• There is a relationship of shared group identity that can be reasonably traced between the cultural items and the Santa Ynez Band of Chumash Mission Indians of the Santa Ynez Reservation, California.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after March 29, 2024. If competing requests for repatriation are received, the University of California, Riverside and the California Department of Parks and Recreation must determine the most appropriate requestor prior to repatriation. Requests for joint repatriation of the cultural items are considered a single request and not competing requests. The University of California, Riverside and the California Department of Parks and Recreation is responsible for sending a copy of this notice to the Indian Tribes and Native Hawaiian organizations identified in this notice.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3003, and the implementing regulations, 43 CFR 10.10.

Dated: February 20, 2024.
Melanie O'Brien,
Manager, National NAGPRA Program.

[FR Doc. 2024-04092 Filed 2-27-24; 8:45 am]

BILLING CODE 4312-52-P